DEPARTMENT OF ENERGY

Federal Energy Regulatory Commission

Combined Notice of Filings #1

Take notice that the Commission received the following electric corporate filings:

Docket Numbers: EC12-13-000.

Applicants: Michigan Electric Transmission Company.

Description: METC's application for approval of acquisition of transmission assets pursuant to Section 203 of the Federal Power Act.

Filed Date: 10/20/2011.

Accession Number: 20111020-5131.

Comment Date: 5 p.m. Eastern Time on Thursday, November 10, 2011.

Take notice that the Commission received the following electric rate filings:

Docket Numbers: ER12-136-000.

Applicants: PJM Interconnection, L.L.C.

Description: PJM Interconnection, L.L.C. submits tariff filing per 35.13(a)(2)(iii): Queue No. V2-041; Original Service Agreement No. 3074 to be effective 9/19/2011.

Filed Date: 10/19/2011.

Accession Number: 20111019-5153.

Comment Date: 5 p.m. Eastern Time on Wednesday, November 09, 2011.

Docket Numbers: ER12-137-000.

Applicants: Appalachian Power Company.

Description: Appalachian Power Company submits tariff filing per 35.1: 20111020 APCo RS and SA Tariff to be effective 10/21/2011.

Filed Date: 10/20/2011.

Accession Number: 20111020-5095.

Comment Date: 5 p.m. Eastern Time on Thursday, November 10, 2011.

Docket Numbers: ER12-138-000.

Applicants: Union Electric Company, Entergy Arkansas, Inc.

Description: Union Electric Company submits tariff filing per 35.1: RS 94—Interchange Agreement with EAI and AECI to be effective 12/18/2011.

Filed Date: 10/20/2011.

Accession Number: 20111020-5096.

Comment Date: 5 p.m. Eastern Time on Thursday, November 10, 2011.

Docket Numbers: ER12-139-000.

Applicants: Entergy Services, Inc.

Description: Entergy Mississippi, Inc submits Notice of Termination of the executed Interconnection and Operating Agreement and Generator Imbalance Agreement, filed 11/22/00 with Duke Energy Southhaven, LLC.

Filed Date: 10/19/2011.

Accession Number: 20111021-0203.

Comment Date: 5 p.m. Eastern Time on Wednesday, November 09, 2011.

Docket Numbers: ER12-140-000.

Applicants: Southwest Power Pool, Inc.

Description: Southwest Power Pool, Inc. submits tariff filing per 35.13(a)(2)(iii): Incorporate Formula Rate Template for Kansas Power Pool to be effective 12/1/2011.

Filed Date: 10/20/2011.

Accession Number: 20111020-5111.

Comment Date: 5 p.m. Eastern Time on Thursday, November 10, 2011.

Docket Numbers: ER12-141-000.

Applicants: NAP Trading and Marketing, Inc.

Description: NAP Trading and Marketing, Inc submits Notice of Cancellation of Market-Based Rate Tariff to be effective 10/21/11.

Filed Date: 10/20/2011.

Accession Number: 20111021-0204.

Comment Date: 5 p.m. Eastern Time on Thursday, November 10, 2011.

Docket Numbers: ER12-142-000.

Applicants: Midwest Independent Transmission System Operator, Inc.

Description: Midwest Independent Transmission System Operator, Inc. submits tariff filing per 35.13(a)(2)(iii): EAI-Ameren Missouri Certificate of Concurrence to be effective 12/18/2011.

Filed Date: 10/20/2011.

Accession Number: 20111020-5114.

Comment Date: 5 p.m. Eastern Time on Thursday, November 10, 2011.

Docket Numbers: ER12-143-000.

Applicants: Dominion Energy Kewaunee, Inc.

Description: Dominion Energy Kewaunee, Inc. submits tariff filing per 35: Compliance Filing—MBR Tariff Order of Affiliate Restrictions to be effective 10/20/2011.

Filed Date: 10/20/2011.

Accession Number: 20111020-5121.

Comment Date: 5 p.m. Eastern Time on Thursday, November 10, 2011.

Docket Numbers: ER12-144-000.

Applicants: Dominion Energy Marketing, Inc.

Description: Dominion Energy Marketing, Inc. submits tariff filing per 35: Compliance Filing—MBR Tariff Order of Affiliate Restrictions to be effective 10/20/2011.

Filed Date: 10/20/2011.

Accession Number: 20111020-5130.

Comment Date: 5 p.m. Eastern Time on Thursday, November 10, 2011.

Docket Numbers: ER12-145-000.

Applicants: Dominion Energy Manchester Street, Inc.

Description: Dominion Energy Manchester Street, Inc. submits tariff filing per 35: Compliance Filing—MBR Tariff Order of Affiliate Restrictions to be effective 10/20/2011.

Filed Date: 10/20/2011.

Accession Number: 20111020-5132.

Comment Date: 5 p.m. Eastern Time on Thursday, November 10, 2011.

Docket Numbers: ER12-146-000.

Applicants: Dominion Energy New England, Inc.

Description: Dominion Energy New England, Inc. submits tariff filing per 35: Compliance Filing—MBR Tariff Order of Affiliate Restrictions to be effective 10/20/2011.

Filed Date: 10/20/2011.

Accession Number: 20111020-5135.

Comment Date: 5 p.m. Eastern Time on Thursday, November 10, 2011.

Take notice that the Commission received the following electric securities filings:

Docket Numbers: ES11-30-001.

Applicants: System Energy Resources, Inc.

Description: Supplemental Information of System Energy Resources, Inc.

Filed Date: 10/20/2011.

Accession Number: 20111020-5154.

Comment Date: 5 p.m. Eastern Time on Monday, October 31, 2011.

Docket Numbers: ES11-40-001.

Applicants: Entergy Mississippi, Inc., Entergy Services, Inc., Entergy Arkansas, Inc., Entergy Louisiana, LLC, Entergy New Orleans, Inc., Entergy Gulf States Louisiana, L.L.C., System Energy Resources, Inc., Entergy Texas, Inc.

Description: Supplemental information of Entergy Services, Inc., et al.

Filed Date: 10/20/2011.

Accession Number: 20111020-5157.

Comment Date: 5 p.m. Eastern Time on Monday, October 31, 2011.

Docket Numbers: ES11-44-001.

Applicants: Georgia Power Company.

Description: Amendment to Application of Georgia Power Company under ES11-44.

Filed Date: 10/20/2011.

Accession Number: 20111020-5156.

Comment Date: 5 p.m. Eastern Time on Monday, October 31, 2011.

Docket Numbers: ES11-53-001.

Applicants: System Energy Resources, Inc.

Description: Supplemental Information of System Energy Resources, Inc.

Filed Date: 10/20/2011.

Accession Number: 20111020-5155.

Comment Date: 5 p.m. Eastern Time on Monday, October 31, 2011.

Take notice that the Commission received the following qualifying facility filings:

Docket Numbers: QF86-1061-008, EL12-3-000.

Applicants: Sunoco Power Generation LLC.

Description: Sunoco Power Generation LLC submits a Request for a Limited waiver of the Qualifying Facility Standards for 2010.

Filed Date: 10/20/2011.

Accession Number: 20111021-0201.

Comment Date: 5 p.m. Eastern Time on Thursday, November 10, 2011.

Docket Numbers: QF12-11-000.

Applicants: Green Lane Energy, Inc.

Description: Form 556—Notice of self-certification of Green Lane Energy, Inc.

Filed Date: 10/20/2011.

Accession Number: 20111020-5034.

Comment Date: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 21, 2011.
Nathaniel J. Davis, Sr.,
Deputy Secretary.

[FR Doc. 2011-27996 Filed 10-28-11; 8:45 am]

BILLING CODE 6717-01-P